DEPARTMENT OF LABOR

Employment and Training Administration

Guam Military Base Realignment Contractor Recruitment Standards

AGENCY: Employment and Training Administration, Labor.

ACTION: Notice.

SUMMARY: The U.S. Department of Labor's (Department) Employment and Training Administration (ETA) is issuing this notice to announce the recruitment standards that construction contractors are required to follow when recruiting United States (U.S.) workers for Guam military base realignment projects funded through the National Defense Authorization Act (NDAA) for Fiscal Year 2010.

DATES: This notice is effective upon publication in the Federal Register.

FOR FURTHER INFORMATION CONTACT: Anthony D. Dais, Office of Workforce Investment, Employment and Training Administration, U.S. Department of Labor, 200 Constitution Avenue NW., Room S-4231, Washington, DC 20210. Telephone (202) 693-2784 (this is not a toll-free number). Individuals with hearing or speech impairments may access the telephone number above via TTY by calling the toll-free Federal Information Relay Service at 1-(877) 889-5627 (TTY/TDD). Fax: (202) 693-3015. Email: dais.anthony@dol.gov.

SUPPLEMENTARY INFORMATION: Section 2834(a) of the NDAA for Fiscal Year 2010 (Pub. L. 111-84, enacted October 28, 2009) amended Section 2824(c) of the Military Construction Authorization Act (Pub. L. 110-417, Division B) by adding a new subsection (6). This provision prohibits contractors engaged in construction projects related to the realignment of U.S. military forces from Okinawa to Guam from hiring non-U.S. workers unless the Governor of Guam (Governor), in consultation with the Secretary of Labor (Secretary), certifies that: (1) There is an insufficient number of U.S. workers that are able, willing, and qualified to perform the work; and (2) that the employment of non-U.S. workers will not have an adverse effect on either the wages or the working conditions of U.S. construction workers in Guam.

In order to allow the Governor to make this certification, the NDAA requires contractors to recruit workers in the U.S., including in Guam, the Commonwealth of the Northern Mariana Islands, American Samoa, the U.S. Virgin Islands, and Puerto Rico, according to the terms of a recruitment plan developed and approved by the Secretary. That recruitment plan has been reproduced in full in Section I below (“Contractor Recruitment Standards”).

The Department has developed the Contractor Recruitment Standards in full consultation with, and with the approval of, the Guam Department of Labor (GDOL). Although the Department has developed the recruitment standards, it has assigned oversight of the Contractor Recruitment Standards and the NDAA-required consultation with the Governor to GDOL through a Memorandum of Understanding between the Department and GDOL, effective November 22, 2011 (the MOU can be found on the RegInfo.gov Web site listed at the end of this Federal Register Notice).

Under the NDAA, no Guam base realignment construction project work may be performed by a person holding an H-2B visa under the Immigration and Nationality Act until the contractor complies with the Department's Contractor Recruitment Standards, and the Governor of Guam issues the certification noted above. The Department is now publishing an interim version of the recruitment standards to avoid delaying the start of projects that are essential to fulfill U.S. international obligations, meet the needs of the people of Guam and the U.S. Department of Defense, and to ameliorate extremely high unemployment rates among U.S. workers with construction skills and experience. More background is provided in U.S. Department of Labor Report to Congress Required by the National Defense Authorization Act for Fiscal Year 2010 (July 29, 2011), submitted to the Senate Committee on Health, Education, Labor, and Pensions, and the Armed Services Committee; and the House of Representatives Education and the Workforce Committee, and the Armed Services Committee (this report can be found at the RegInfo.gov Web site listed at the end of this Federal Register Notice).

Upon publication of this notice, the Contractor Recruitment Standards in Section I below will take effect immediately. To comply with the Paperwork Reduction Act of 1995 (PRA) and 5 CFR 1320.13, the Department obtained approval from the President's Office of Management and Budget (OMB) for information collection pursuant to the Contractor Recruitment Standards, effective October 19, 2011 and scheduled to expire April 30, 2012. The Department is requesting a three-year extension of this information collection request (ICR). A copy of the ICR can be obtained by following the instructions at the end of this Federal Register Notice.

I. Guam Military Base Realignment Contractor Recruitment Standards

Guam military base realignment contractors must take the following actions to recruit U.S. workers.

1. At least 60 days before the start date of workers under a base realignment contract, contractors must

a. Submit a job posting with GDOL at http://dol.guam.gov/index.php?option=com_jobline&Itemid=0&task=add, or by submitting a completed Job Order (Form GES 514) in person at the Guam Employment Service office. The job posting must be posted on the GDOL Job Bank for at least 21 consecutive days;

b. Submit a job posting with the state workforce agency's Internet job bank in American Samoa at www.usworks.com/americansamoa/, the Commonwealth of the Northern Mariana Islands at https://marianaslabor.net/employer.asp, and in the following states:

i. Alaska (www.jobs.state.ak.us);

ii. California (www.caljobs.ca.gov);

iii. Hawaii (www.hirenethawaii.com);

iv. Oregon (www.emp.state.or.us/jobs); and

v. Washington (https://fortress.wa.gov/esd/worksource/Employment.aspx).

The job posting must be posted for at least 21 consecutive days. If for any reason the Internet job bank in American Samoa is not available, the contractor must place an advertisement on two Sundays in a newspaper that: (1) Is of general circulation in the territory; (2) has a reasonable distribution and is appropriate to the occupation; and (3) is likely to be seen by workers interested in applying for construction employment.

c. Submit a job posting with an Internet-based job bank that

i. is national in scope, including the entire U.S., Guam, the Commonwealth of the Northern Mariana Islands, American Samoa, the Virgin Islands, and the Commonwealth of Puerto Rico;

ii. allows job postings for all occupations; and

iii. is free of charge for job seekers and their intermediaries in One-Stop Career Centers and the employment service delivery system nationwide.

d. Where the occupation or industry is customarily unionized, contact the local union in Guam in writing to seek U.S. workers who are qualified and who will be available for the job opportunity.

The postings are separate and distinct requirements—i.e., a posting under Section 1(b) cannot be used to satisfy the posting requirement under Section 1(c).

2. Each job posting in (1)(a) through (d) must include, at a minimum, the following:

a. The contractor's name and appropriate contact information for applicants to inquire about the job opportunity or to send applications and/or résumés directly to the employer;

b. The geographic area of employment, with enough specificity to apprise applicants of any travel requirements and where applicants will likely have to reside to perform the services or labor;

c. If applicable, a statement that daily transportation to and from the worksite(s) will be provided by the employer;

d. A description of the job opportunity with sufficient information to apprise U.S. workers of the services or labor to be performed, including the duties, the minimum education and experience requirements, the work hours and days, and the anticipated start and end dates of the job opportunity;

e. If applicable, a statement that on-the-job training will be provided to the worker;

f. If applicable, a statement that overtime will be available to the worker and the wage offer for working any overtime hours;

g. The wage offer, and the benefits, if any, offered;

h. A statement that the position is temporary; and

i. The total number of job openings the employer intends to fill.

3. During the 28-day recruitment period, which begins on the earliest date of posting, contractors must interview all qualified and available Guam and U.S. construction workers who have applied for the employment opportunity.

4. After the close of the recruitment period, and no later than 30 days before the start date of workers under a contract, the contractor must provide a report including the following information via email to GDOL at ndaa.recruitment@dol.guam.gov documenting its efforts to recruit U.S. workers from the U.S. and all U.S. territories:

a. A description of all the recruitment approaches used to recruit realignment workers. The description must include identification of the Internet job banks where the postings occurred, the occupation or trade, a description of wages and other terms and conditions of employment, the date of each posting, and the job order or requisition number. If newspaper advertisements were used, the description must also include the dates that these ads appeared in the newspaper;

b. A copy of each job posting;

c. A detailed description of how each response to the job postings was handled, including

i. the number of job applications received;

ii. the name of each applicant;

iii. the position applied for;

iv. the final employment determination for each applicant or job candidate; and

v. for each U.S. job applicant not hired, a description of the specific, lawful, job-related reason for rejecting the applicant for employment, which includes a comparison of the job applicant's skills and experience against the terms listed in the original job posting.

II. Departmental Recruitment Support Activities

Separate from the Contractor Recruitment Standards, ETA will facilitate a nationwide outreach and recruitment effort to maximize hiring of U.S. construction workers, including outreach to its workforce investment system. ETA will do the following:

• Develop and issue a Training and Employment Notice (TEN), and hold an Internet-based training session (“Webinar”) to inform contractors, state workforce agencies, state and local workforce investment boards, and One-Stop Career Centers of the anticipated construction employment opportunities on Guam and how these opportunities will be posted [interested individuals can automatically receive notice of the TEN by going to http://wdr.doleta.gov/directives and clicking on the last bullet, stating “To be added to the ETA Advisory electronic distribution list—click here” and interested individuals can automatically receive notice of the Webinar by registering for ETA's Workforce3One by going to https://www.workforce3one.org/register.aspx, then going to the fourth category (Newsletters and Updates) and checking the box for “Webinars/Live Events,” and should also check both boxes under “Reemployment Works” in the preceding category (labeled “Join Communities”)];

• Develop telephone scripts for a Toll-Free Help Line directing job seekers to the GDOL job bank;

• Ensure that Departmental offices — including the Office of Unemployment Insurance, the Office of Apprenticeship, the Office of Job Corps, the Veterans' Employment and Training Service, and the YouthBuild program—are informed of the construction employment opportunities; and

• Brief pertinent intergovernmental and labor organizations (including the National Governors Association, National Conference of State Legislatures, and building trades unions), so that they can assist in spreading information about the U.S. worker outreach effort.

III. Public Burden Statement

These Contractor Recruitment Standards have been approved under the PRA. Persons are not required to respond to this collection of information unless it displays a valid OMB control number (1205-0484). Public reporting burden for this collection of information is estimated at three hours per job order, including the time for reviewing instructions, searching existing data sources, gathering and maintaining the data needed, and completing and reviewing the collection of information. Further information on this ICR can be accessed using control number 1205-0484 at the RegInfo.gov Web site at www.reginfo.gov/public/do/PRAMain. To do this, use the following instructions.

1. Go to the “Select Agency” box and click on the drop-down arrow, and then select “Department of Labor.” Then click on the “Submit” button to the right of the box.

2. Each entry lists the OMB Control Number at the top of the entry. Scroll down the screen until 1205-0484 appears (the entries are in numerical order).

3. Once you reach 1205-0484, click on the number immediately below that, the ICR Reference Number (not the Control Number itself).

4. To see the Information Collection notices themselves, click on “View Information Collection (IC) List” near the top of the page on the left. To see the Report to Congress, the MOU, the ICR Supporting Statement and other relevant documents, click on “View Supporting Statement and Other Documents” near the top of the page on the right.

Signed: at Washington, DC, this 17th day of January, 2012.
Jane Oates,
Assistant Secretary for Employment and Training.

[FR Doc. 2012-1295 Filed 1-23-12; 8:45 am]

BILLING CODE 4510-FN-P